SOCIAL SECURITY ADMINISTRATION

[Docket No. SSA-2011-0057]

Social Security Ruling 11-1p; Titles II and XVI: Procedures for Handling Requests To File Subsequent Applications for Disability Benefits

AGENCY: Social Security Administration.

ACTION: Notice of Social Security Ruling (SSR)

SUMMARY: We are giving notice of SSR 11-1p, in which we explain our new procedures for handling your request to file a disability claim when you have a pending claim of the same title and benefit type in our administrative review process. This change will allow us to more efficiently use our limited resources to handle the increase in the number of initial disability claims that we have seen in light of the economic downturn.

DATES: Effective Date: July 28, 2011.

FOR FURTHER INFORMATION CONTACT: Mary Beth Rochowiak, Social Security Administration, 6401 Security Boulevard, Baltimore, MD 21235-6401 (410) 594-2302, or TTY 1-800-325-0778.

SUPPLEMENTARY INFORMATION: We are publishing this SSR in accordance with 20 CFR 402.35(b)(1).

Through SSRs, we make available to the public precedential decisions relating to the Federal old-age, survivors, disability, Supplemental Security Income, and special veteran's benefits programs. We may base SSRs on determinations or decisions made at all levels of administrative adjudication, Federal court decisions, Commissioner's decisions, opinions of the Office of the General Counsel, or other interpretations of the law and regulations.

Although SSRs do not have the same force and effect as statutes or regulations, they are binding on all of our components. 20 CFR 402.35(b)(1).

This SSR will be in effect until we publish a notice in the Federal Register that rescinds it or publish a new SSR that replaces or modifies it.

(Catalog of Federal Domestic Assistance Program Nos. 96.001 Social Security—Disability Insurance; 96.006—Supplemental Security Income.)

Dated: July 22, 2011.
Michael J. Astrue,
Commissioner of Social Security.

Policy Interpretation Ruling

Titles II and XVI: Procedures for Handling Requests To File Subsequent Applications for Disability Benefits

Purpose: To explain our revised procedure under which we will no longer process a subsequent disability claim if you already have a claim under the same title and of the same type pending in our administrative review process.

Citations: Sections 202(j), 216(i), 223(a), and 1631(e) of the Social Security Act, as amended; Regulations No. 4, subpart G, sections 404.601, 404.603; subpart J, sections 404.900(b), 404.970(b), 404.976(b); and Regulations No. 16, subpart C, section 416.305; subpart N, sections 416.1400(b), 416.1470(b), 416.1476(b).

Introduction

In 1999, we adopted a procedure that allowed us to process a subsequent disability claim while your prior disability claim was pending at the Appeals Council level of our administrative review process.

Under that procedure, if you filed a subsequent application for disability benefits while you had a disability claim pending at the Appeals Council, we sent your subsequent claim to the disability determination services (DDS) or similar case-processing center for development and adjudication. If we denied your subsequent application at the earlier stages, and you requested a hearing before an administrative law judge (ALJ), the hearing office took no action until the Appeals Council completed its action on your prior claim.

We have seen an increase in the number of subsequent disability claims in recent years. When two disability claims under the same title and type are pending at the same time, there can be conflicting decisions that we must then reconcile. Subsequent claims may result in improper payments, increased administrative costs, and unnecessary workloads stemming from duplication. Because of these problems and the significant increase in the number of initial disability claims that we have experienced in recent years, we are changing our procedures for handling subsequent applications for disability claims of the same title and type.

Policy Interpretation

Under the new procedures we are adopting in this Ruling, generally you will no longer be allowed to have two claims for the same type of benefits pending at the same time. If you want to file a new disability claim under the same title and of the same type as a disability claim pending at any level of administrative review, you will have to choose between pursuing your administrative review rights on the pending disability claim or declining to pursue further administrative review and filing a new application. This Ruling explains our new procedures.

If You Choose To Pursue Your Pending Disability Claim Instead of Filing a New Claim Under the Same Title and of the Same Type

If you decide to pursue your administrative review rights on the pending disability claim, we will not accept your subsequent application for benefits under the same title and for the same type of benefit as the pending claim. Although we will not accept your subsequent application while your prior disability claim is pending administrative review, you can still provide us with evidence that is relevant to your pending claim, in accordance with our existing regulations and procedures. Our technological improvements, such as Electronic Records Express and electronic alerts and messages, enable our offices to communicate with one another faster and more efficiently and act on additional evidence promptly. If the additional evidence indicates a critical or dire need situation, we will act expeditiously.

Claim Pending at Initial, Reconsideration, or Hearing Level

The procedures in this Ruling do not preclude you from reporting new medical conditions or a worsening in your existing medical conditions, and you can submit additional evidence on these matters. We will forward any additional evidence you submit to the office that is handling the pending claim so that it can be associated with that claim.

You can submit any information or evidence that you feel is helpful to your pending disability claim. See 20 CFR 404.900(b) and 416.1400(b). In adjudicating the pending disability claim, we will consider the information and evidence you submit, together with all the other information in the claim folder. Id.

Claim Pending With the Appeals Council

If you choose to pursue your disability claim that is pending at the Appeals Council, and you submit additional evidence, the Appeals Council will first determine whether the additional evidence relates to the period on or before the date of the hearing decision. When the additional evidence is new and material and relates to the period on or before the date of the hearing decision, the Appeals Council will consider it, together with the entire record. 20 CFR 404.970(b), 416.1470(b), and 405.373.¹ The Appeals Council will review your case if it finds that the ALJ's action, findings, or conclusion is contrary to the weight of the evidence currently of record. Id.

¹ In the six states that comprise our Boston Region (Maine, New Hampshire, Vermont, Rhode Island, Massachusetts, and Connecticut), the Appeals Council must consider whether the evidence relates to the period on or before the hearing decision, whether there is a reasonable probability that the evidence would change the outcome of the decision, and one of the following: 1) our action misled you; 2) you had a physical, mental, educational, or linguistic limitation(s) preventing you from submitting the evidence earlier; or 3) some other unusual, unexpected, or unavoidable circumstance beyond your control that prevented you from submitting the evidence earlier. 20 CFR 405.373.

If the new and material evidence that relates to the period on or before the date of the hearing decision shows a critical or disabling condition, the Appeals Council will expedite its review of your pending claim.

When the additional evidence does not relate to the period on or before the date of your hearing decision, the Appeals Council will return the additional evidence to you. 20 CFR 404.976(b), 416.1476(b). The notice returning the additional evidence will explain why the Appeals Council did not accept the evidence and inform you that, under certain circumstances, we will consider the date you filed the request for Appeals Council review as the filing date for your new claim. If you originally filed for disability benefits under title II, and you file a new application for title II disability benefits within six months of the date of this notice, we will use the date of your request for Appeals Council review as the filing date. If both applications are for Supplemental Security Income payments based on disability under title XVI, and you file the new application within 60 days from the date of the notice, we will use the date you requested Appeals Council review as the filing date for the new claim. We will permit the filing of a new disability claim after the Appeals Council completes its action on the request for review of the pending claim.

If the additional evidence that does not relate to the period on or before your hearing decision shows a new critical or disabling condition, and you tell us that you want to file a new claim based on this evidence, the Appeals Council may permit you to file a new disability claim before it completes its action on your request for review of the pending claim.

If You Choose To Decline Further Review of Your Pending Disability Claim and Instead File a New Claim Under the Same Title and of the Same Type

If, on the other hand, you decide to decline to pursue further administrative review on the pending disability claim and file a new application, we will assess your eligibility for any other benefits and take applications for these benefits. When you received an unfavorable or partially favorable decision from us on your pending claim, we explained the effect that not pursuing an appeal might have on your possible entitlement to benefits.

If Your Subsequent Claim Does Not Involve the Same Title or Type of Benefit

This Ruling does not change the procedure we currently follow when you file a subsequent claim under a different title or for a different benefit type than a pending claim. When a subsequent claim under a different title or for a different benefit type shares a common issue with the pending claim, we will usually consolidate it with the pending claim through the hearing level. When you file a subsequent claim that is under a different title or is for a different benefit type and your prior claim is pending review at the Appeals Council, we will process the subsequent claim in accordance with our current procedures.

Cross-References: Program Operations Manual System, DI 12045.027 and DI 20101.025, DI 23015.005, DI 81010.155, DI 81020.120, GN 00201.005, GN 00204.028, GN 00206.001, GN 00206.015, GN 01010.030, GN 03104.370. GN 03104.380, GN 03104.385, GN 03104.390, GN 03104.400, GN 03104.400, SI 00601.030, SI 00601.048, SI 00601.050, SI 04040.025, SI 04040.027, Hearings, Appeals and Litigation Law Manual, I-3-1-7, I-3-5-20, I-3-5-90, I-4-2-30, I-4-2-1, I-5-1-13, and I-5-3-17.

[FR Doc. 2011-19103 Filed 7-27-11; 8:45 am]

BILLING CODE 4191-02-P